DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the name of 3 individuals and 3 entities whose property and interests in property are blocked pursuant to E.O. 13224 and whose name has been added to OFAC's list of Specially Designated Nationals and Blocked Persons (SDN List).

DATES: OFAC's actions described in this notice were effective February 26, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On February 26, 2015, OFAC blocked the property and interests in property of the following 3 individuals and 3 entities pursuant to E.O. 13224, “Blocking Property and Prohibiting Transactions With Persons Who Commit, Threaten To Commit, or Support Terrorism”:

Individuals

1. FAWAZ, Fouzi Reda Darwish (a.k.a. DARWISH-FAWAZ, Fawzy Reda; a.k.a. DARWISH-FAWAZ, Fouzi Reda; a.k.a. FAWAZ, Fawzi Reda; a.k.a. FAWAZ, Fawzy; a.k.a. FAWAZ, Fowzy; a.k.a. FAWWAZ, Fawzi); DOB 12 Feb 1968; alt. DOB 24 Mar 1973; POB Jwaya, Lebanon; alt. POB Sierra Leone; citizen Lebanon; alt. citizen Nigeria; alt. citizen Sierra Leone; Passport 0107516 (Lebanon); alt. Passport 0258649 (individual) [SDGT] (Linked To: HIZBALLAH).

2. FAWAZ, Mustapha Reda Darwish (a.k.a. DARWISH-FAWAZ, Moustafa Reda; a.k.a. FAWAZ, Mostafa Reda Darwich; a.k.a. FAWAZ, Moustapha; a.k.a. FAWAZ, Mustafa; a.k.a. FAWAZ, Mustafa Darwish; a.k.a. FAWAZ, Mustapha; a.k.a. FAWAZ, Mustapha Rhoda Darwich; a.k.a. FAWAZ, Mustapha Rida Darwich; a.k.a. FAWWAZ, Mustafa), Flat 4, Blantyre Street, Behind Amigo Supermarket, Wuse II, Abuja, Nigeria; 3 Gaya Road, Kano, Nigeria; DOB 25 Jun 1964; alt. DOB 10 Sep 1964; POB Jwaya, Lebanon; alt. POB Koidu Town, Sierra Leone; citizen Lebanon; alt. citizen Nigeria; alt. citizen Sierra Leone; Gender Male; Passport RL 2101602 (Lebanon); alt. Passport RL 0148105 (Lebanon); alt. Passport 0168459 (Sierra Leone); alt. Passport 0257909 (Sierra Leone); SSN 418-15-2837 (United States) (individual) [SDGT] (Linked To: HIZBALLAH).

3. TAHINI, Abdallah Asad (a.k.a. THAHINI, Abdallah; a.k.a. THINI, Abdalla As'ad; a.k.a. “TAHINI, Ahmad”); DOB 20 Jun 1965; POB Lebanon (individual) [SDGT] (Linked To: HIZBALLAH).

Entities

1. AMIGO SUPERMARKET LIMITED (a.k.a. AMIGO SUPERMARKET), 1023, Adetokunbo Ademola Crescent, Wuse II, Abuja, Nigeria [SDGT] (Linked To: FAWAZ, Mustapha Reda Darwish; Linked To: FAWAZ, Fouzi Reda Darwish).

2. KAFAK ENTERPRISES LIMITED, 88B, T/Balewa Road, Kano State, Nigeria; Sierra Leone [SDGT] (Linked To: FAWAZ, Mustapha Reda Darwish; Linked To: FAWAZ, Fouzi Reda Darwish).

3. WONDERLAND AMUSEMENT PARK AND RESORT LTD (a.k.a. WONDERLAND AMUSEMENT PARK), B1 Kukbawa, Opposite National Stadium, Abuja, FCT, Nigeria [SDGT] (Linked To: FAWAZ, Mustapha Reda Darwish; Linked To: FAWAZ, Fouzi Reda Darwish).

Dated: February 26, 2015.
John E. Smith,
Acting Director, Office of Foreign Assets Control.

[FR Doc. 2015-05774 Filed 3-12-15; 8:45 am]

BILLING CODE 4810-AL-P